DEPARTMENT OF LABOR

Office of the Secretary

Submission for OMB Review; Comment Request

May 14, 2002.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King on (202) 693-4129 or E-Mail: King-Darrin@dol.gov.

Comments should be sent to Office of Information and Regulatory Affairs, Attn: OMB Desk Officer for ETA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Type of Review: New collection.

Title: Workforce Investment Act (WIA) National Emergency Grant (NEG) Financial Reporting Requirements.

OMB Number: 1205-0NEW.

Affected Public: State, Local, or Tribal Government; Not-for-profit institutions; and Business or other for-profit.

Frequency: Quarterly.

Type of Response: Reporting.

Number of Respondents: 40.

Number of Annual Responses: 320.

Estimated Time Per Response: .5 hours.

Total Burden Hours: 160.

Total Annualized Capital/Startup Costs: $0.

Total Annual Costs (operating/maintaining systems or purchasing services): $0.

Description: In accordance with the Workforce Investment Act of 1998 (Public Law 105-220) and 20 CFR 652 et al., the National Emergency Grant Financial Reporting requirements have been developed to achieve compliance with the statute. Furthermore, the Regulations at 20 CFR 667.300 require that DOL issue financial reporting instructions to the States and other direct grant recipients. These financial reporting requirements represent the DOL's only means for obtaining the statutorily required data.

Ira L. Mills,
Departmental Clearance Officer.

[FR Doc. 02-12697 Filed 5-20-02; 8:45 am]

BILLING CODE 4510-30-M